DEPARTMENT OF DEFENSE

Department of the Army, Corps of Engineers

33 CFR Part 263

[COE-2019-0005]

RIN 0710-AA93

Continuing Authorities Programs

AGENCY: U.S. Army Corps of Engineers, Department of Defense.

ACTION: Final rule.

SUMMARY: This final rule removes the U.S. Army Corps of Engineers' part titled Continuing Authorities Programs. Each removed section of this part is out-of-date and covers internal agency operations that have no public compliance component or adverse public impact. Current policy and procedures on this subject can be found in internal documents. Therefore, this part can be removed from the Code of Federal Regulations (CFR).

DATES: This rule is effective on January 15, 2021.

ADDRESSES: Department of the Army, U.S. Army Corps of Engineers, ATTN: CECW-P (Ms. Amy Frantz), 441 G Street NW, Washington, DC 20314-1000.

FOR FURTHER INFORMATION CONTACT: Ms. Amy Frantz at (202) 761-0106 or by email at Amy.K.Frantz@usace.army.mil.

SUPPLEMENTARY INFORMATION: This final rule removes from the CFR 33 CFR part 263, Continuing Authorities Programs. The rule was initially published in the Federal Register on November 3, 1975 (40 FR 51134), and amended on December 30, 1976 (41 FR 56943). The regulation provided policies and procedures for seven legislative authorities under which the Secretary of the Army, acting through the Chief of Engineers, was authorized to plan, design and construct certain types of water resource improvements without specific Congressional authorization. The Continuing Authorities Program is used to plan and implement projects of limited size, scope and complexity in an accelerated manner compared to traditional USACE projects. Three new authorities have been authorized since publication of the regulation and an updated internal agency policy reflects changes in cost share limits and program limits for all ten existing authorities. The rule was published, at that time, in the Federal Register to aid public accessibility. For current public accessibility purposes, the implementation procedures for the authorities listed in this regulation are currently covered under Engineer Pamphlet (EP) 1105-2-58, “Continuing Authorities Program,” dated March 1, 2019 (available at https://www.publications.usace.army.mil/Portals/76/EP_1105-2-58.pdf?ver=2019-04-30-105428-920). The solicitation of public comment for this removal is unnecessary because the rule is out-of-date and covers internal agency operations that have no public compliance component or adverse public impact.

This rule removal is being conducted to reduce confusion for the public as well as for the Corps regarding the current policy which governs the Corps' Continuing Authorities Program. Because the regulation does not place a burden on the public, its removal does not provide a reduction in public burden or costs.

This rule is not significant under Executive Order (E.O.) 12866, “Regulatory Planning and Review.” Therefore, the requirements of E.O. 13771, “Reducing Regulation and Controlling Regulatory Costs,” do not apply. This removal supports a recommendation of the DoD Regulatory Reform Task Force.

List of Subjects in 33 CFR Part 263

Flood control, Navigation (water), Seashores, Water resources.

PART 263—[REMOVED]

Accordingly, for the reasons stated in the preamble and under the authority of 5 U.S.C. 301, the Corps removes 33 CFR part 263.

Approved by:
R.D. James,
Assistant Secretary of the Army (Civil Works).

[FR Doc. 2020-28126 Filed 1-14-21; 8:45 am]

BILLING CODE 3720-58-P